FEDERAL COMMUNICATIONS COMMISSION

47 CFR Part 73

[DA 00-2068, MM Docket No. 00-165, RM-9941]

Radio Broadcasting Services; Royston and Arcade, GA

AGENCY: Federal Communications Commission.

ACTION: Proposed rule.

SUMMARY: The Commission requests comments on a petition filed by Southern Broadcasting of Athens, Inc., licensee of Station WPUP(FM), Channel 279C3, Royston, GA, seeking the reallotment of Channel 279C3 from Royston to Arcade, GA, as the community's first local aural service, and modification of Station WPUP(FM)'s license accordingly. Petitioner is requested to provide further information concerning the status of Arcade as a community for allotment purposes and the areas and populations which will gain and lose service if the reallotment is granted. Channel 279C3 can be allotted to Arcade in compliance with the Commission's minimum distance separation requirements with a site restriction of 21 kilometers (13 miles) north, at coordinates 34-15-09 NL; 83-28-28 WL, to avoid a short-spacing to Stations WVEE, Channel 277C, Atlanta, GA, WVKX, Channel 279A, Irwinton, GA, and WDDK, Channel 280A, Greensboro, GA, as well as to accommodate petitioner's desired transmitter site.

DATES: Comments must be filed on or before October 30, 2000, and reply comments on or before November 14, 2000.

ADDRESSES: Federal Communications Commission, 445 12th Street, S.W., Room TW-A325, Washington, DC 20554. In addition to filing comments with the FCC, interested parties should serve the petitioner, or its counsel or consultant, as follows: Gary S. Smithwick, Smithwick & Belendiuk, P.C., 1990 M Street, NW., Suite 510, Washington, DC 20036 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-165, adopted August 30, 2000, and released September 8, 2000. The full text of this Commission decision is available for inspection and copying during normal business hours in the FCC Reference Center, 445 12th Street, SW., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-24068 Filed 9-19-00; 8:45 am]

BILLING CODE 6712-01-P